DEPARTMENT OF LABOR

Employment and Training Administration

[NAFTA—02447]

Nocona Boot Company, Justin Boot Company/Justin Management Company, Nocona, TX; Amended Certification Regarding Eligibility To Apply for NAFTA-Transitional Adjustment Assistance

In accordance with Section 250(A), Subchapter D, Chapter 2, Title II, of the Trade Act of 1974 (19 U.S.C. 2273), the Department of Labor issued a Certification for NAFTA Transitional Adjustment Assistance on June 26, 1998, applicable to workers of Nocona Boot Company, Nocona, Texas. The notice was published in the Federal Register on July 31, 1998 (63 FR 40936).

At the request of the State agency, the Department reviewed the certification for workers of the subject firm. The workers are engaged in the production of western boots. Findings show that some workers separated from employment Nocona Boot Company had their wages reported under a separate unemployment insurance (UI) tax account for Justin Boot Company/Justin Management Company.

The intent of the Department's certification is to include all workers of Nocona Boot Company who were adversely affected by increased imports from Mexico.

Accordingly, the Department is amending the certification to properly reflect this matter.

The amended notice applicable to NAFTA-02447 is hereby issued as follows:

All workers of Nocona Boot Company, Justin Boot Company/Justin Management Company, Nocona, Texas who became totally or partially separated from employment on or after April 25, 1997 through June 26, 2000 are eligible to apply for NAFTA—TAA under Section 250 of the Trade Act of 1974.

Signed at Washington, D.C. this 14th day of March, 2000.
Grant D. Beale,
Program Manager, Division of Trade Adjustment Assistance.

[FR Doc. 00-7119 Filed 3-21-00; 8:45 am]

BILLING CODE 4510-30-M